DEPARTMENT OF COMMERCE

National Oceanic and Atmospheric Administration

[RTID 0648-XA642]

Western Pacific Fishery Management Council; Public Meetings

AGENCY: National Marine Fisheries Service (NMFS), National Oceanic and Atmospheric Administration (NOAA), Commerce.

ACTION: Notice of public meetings and a partially closed meeting.

SUMMARY: The Western Pacific Fishery Management Council (Council) will hold its 138th Scientific and Statistical Committee (SSC), Pelagic and International Standing Committee, Executive and Budget Standing Committee, and 184th Council meetings to take actions on fishery management issues in the Western Pacific Region. A portion of the Council's Executive and Budget Standing Committee meeting will be closed to the public.

DATES: The meetings will be held between November 30 and December 4, 2020. For specific times and agendas, see SUPPLEMENTARY INFORMATION.

ADDRESSES: The meetings will be held by web conference via WebEx. Instructions for connecting to the web conference and providing oral public comments will be posted on the Council website at www.wpcouncil.org. For assistance with the web conference connection, contact the Council office at (808) 522-8220.

The following venues will be the host sites for the 184th Council meeting: Cliff Pointe, 304 W. O'Brien Drive, Hagatna, Guam; BRI Building Suite 205, Kopa Di Oru St., Garapan, Saipan, CNMI; and,Tedi of Samoa Building Suite 208B, Fagatogo Village, American Samoa.

FOR FURTHER INFORMATION CONTACT: Kitty M. Simonds, Executive Director, Western Pacific Fishery Management Council; phone: (808) 522-8220.

SUPPLEMENTARY INFORMATION: All times shown are in Hawaii Standard Time. The 138th SSC meeting will be held between 10 a.m. and 5 p.m. on November 30-December 1, 2020. The Pelagic and International Standing Committee will be held between 1 p.m. and 3 p.m. on December 1, 2020. The Executive and Budget Standing Committee meeting will be held between 3:30 p.m. and 5:30 p.m. on December 1, 2020. The portion of the Executive and Budget Standing Committee from 4 p.m. to 4:30 p.m. will be closed to the public in accordance with Section 302(i)(3) of the Magnuson-Stevens Fishery Conservation and Management Act (MSA). The 184th Council meeting will be held between 11 a.m. and 5 p.m. on December 2 to 4, 2020.

Please note that the evolving public health situation regarding COVID-19 may affect the conduct of the December Council and its associated meetings. At the time this notice was submitted for publication, the Council anticipated convening the Council meeting by web conference with host site locations in Guam, CNMI and American Samoa. Council staff will monitor COVID-19 developments and will determine the extent to which in-person public participation at host sites will be allowable consistent with applicable local and federal safety and health guidelines. If public participation will be limited to web conference only or on a first-come-first-serve basis consistent with applicable guidelines, the Council will post notice on its website at www.wpcouncil.org.

Agenda items noted as “Final Action” refer to actions that result in Council transmittal of a proposed fishery management plan, proposed plan amendment, or proposed regulations to the U.S. Secretary of Commerce, under Sections 304 or 305 of the MSA. In addition to the agenda items listed here, the Council and its advisory bodies will hear recommendations from Council advisors. An opportunity to submit public comment will be provided throughout the agendas. The order in which agenda items are addressed may change and will be announced in advance at the Council meeting. The meetings will run as late as necessary to complete scheduled business.

Background documents for the 184th Council meeting will be available at www.wpcouncil.org. Written public comments on final action items at the 184th Council meeting should be received at the Council office by 5 p.m. HST, November 27, 2020, and should be sent to Kitty M. Simonds, Executive Director; Western Pacific Fishery Management Council, 1164 Bishop Street, Suite 1400, Honolulu, HI 96813, phone: (808) 522-8220 or fax: (808) 522-8226; or email: info.wpcouncil@noaa.gov. Written public comments on all other agenda items may be submitted for the record by email throughout the duration of the meeting. Instructions for providing oral public comments during the meeting will be posted on the Council website. This meeting will be recorded for the purposes of generating the minutes of the meeting.

Agenda for the 138th Scientific and Statistical Committee Meeting

Monday, November 30, 2020, 10 a.m. to 5 p.m.

1. Introductions

2. Approval of Draft Agenda and Assignment of Rapporteurs

3. Status of the 137th SSC Meeting Recommendations

4. Report from Pacific Islands Fisheries Science Center Director

5. Pelagic Fisheries

A. Southern Exclusion Zone and Deep-set Longline Catch Rates

B. Oceanic Whitetip Shark Issues

1. Updated Post-release Mortality of Oceanic Whitetip Sharks

2. Analyses of Fisher Effects on Oceanic Whitetip Catch Rates

3. Oceanic Whitetip Shark Working Group Report

C. Reasonable and Prudent Measures (RPMs) and/or Reasonable and Prudent Alternatives (RPAs) for the Hawaii and American Samoa Longline Fisheries (Action Item)

D. Regional Bigeye Tuna Research Plan

E. International Fisheries

1. Potential Catch Limits for North Pacific Striped Marlin (Action Item)

2. Proposed Tropical Tuna Measure for Western Central Pacific Fisheries Commission (WCPFC)

F. Public Comment

G. SSC Discussion and Recommendations

6. Island Fisheries

A. Territorial Bottomfish Fishery

1. Update on the American Samoa Interim Measure

2. Options for the American Samoa Bottomfish Acceptable Biological Catch for Fishing Year 2021-2022 (Action Item)

3. Options for American Samoa Bottomfish Rebuilding Plan (Action Item)

4. Options for the Guam Bottomfish Rebuilding Plan (Action Item)

B. Plans for Hawaii Fishery Management

C. Public Comment

D. SSC Discussion and Recommendations

Tuesday, December 1, 2020, 10 a.m. to 5 p.m.

7. Protected Species

A. Seabird Mitigation Measures

1. Review of Experimental Fishing Permit

2. Options for Including Tori Lines in the Hawaii Longline Fishery Seabird Mitigation Measures

B. Stories of Conservation Success: Results of Interviews With Hawaii Longline Fishers

C. Ecosystem-based Fishery Management Project TurtleWatch Validation

D. Endangered Species Act (ESA) and Marine Mammal Protection Act (MMPA) Updates

1. Status of ESA Consultations

2. Coral Critical Habitat

3. Insular False Killer Whale (FKW) Draft Recovery Plan

4. FKW Take Reduction Plan

5. Other Updates

E. Public Comment

F. SSC Discussion and Recommendations

8. Other Business

A. March 2021 SSC Meeting Dates

9. Summary of SSC Recommendations to the Council

Agenda for the Pelagic and International Standing Committee

Tuesday, December 1, 2020, 1 p.m. to 3 p.m.

1. North Pacific Striped Marlin

A. Proposed Conservation and Management Measure (CMM) for North Pacific Striped Marlin

B. Options for Catch and/or Effort Limits for North Pacific Striped Marlin for Amendment 8 (Action Item)

2. Proposed Conservation and Management Measure for Tropical Tunas

3. Oceanic Whitetip Working Group Report

4. RPMs and/or RPAs for the Hawaii and American Samoa Longline Fisheries (Action Item)

5. Other Issues

6. Public Comment

7. Discussion and Recommendations

Agenda for the Executive and Budget Standing Committee

Tuesday, December 1, 2020, 3:30 p.m. to 5:30 p.m. (4 p.m. to 4:30 p.m. CLOSED)

1. Financial Reports

2. Administrative Reports

3. Council Family Changes

4. Update on Litigation (Closed Session—pursuant to MSA § 302(i)(3))

5. Election of Officers

6. Meetings and Workshops

7. Other Issues

8. Public Comment

9. Discussion and Recommendations

Agenda for the 184th Council Meeting

Wednesday, December 2, 2020, 11 a.m. to 5 p.m.

1. Welcome and Introductions

2. Approval of the 184th Agenda

3. Approval of the 183rd Meeting Minutes

4. Executive Director's Report

5. Agency Reports

A. National Marine Fisheries Service

1. Pacific Islands Regional Office

2. Pacific Islands Fisheries Science Center

B. NOAA Office of General Counsel Pacific Islands Section

C. Enforcement

1. US Coast Guard

2. NOAA Office of Law Enforcement

3. NOAA Office of General Counsel Enforcement Section

D. U.S. State Department

E. U.S. Fish and Wildlife Service

F. Public Comment

G. Council Discussion and Action

6. Pelagic & International Fisheries

A. Region Bigeye Tuna Research Plan

B. Oceanic Whitetip Working Group Report

C. North Pacific Striped Marlin

1. Proposed CMM for North Pacific Striped Marlin

2. Options for Catch and/or Effort Limits for North Pacific Striped Marlin for Amendment 8 (Initial Action)

D. RPMs and/or RPAs for the Hawaii and American Samoa Longline Fisheries (Initial Action)

E. International Fisheries

1. WCPFC

a. WCPFC Committee Outcomes

b. US Permanent Advisory Committee

2. Proposed CMM for Tropical Tunas

3. Virtual Roundtable on Illegal, Unreported, and Unregulated Fishing and the Western Pacific Region

F. Advisory Group Report and Recommendations

1. Pelagic Plan Team

2. Advisory Panel

3. Scientific & Statistical Committee

G. Standing Committee Report and Recommendations

H. Public Comment

I. Council Discussion and Action

J. Standing Committee Report and Recommendations

K. Public Comment

L. Council Discussion and Action

7. Protected Species

A. Seabird Mitigation Measures

1. Review of Experimental Fishing Permit

2. Options for Including Tori Lines in the Hawaii Longline Fishery Seabird Mitigation Measures

B. Stories of Conservation Success: Results of Interviews with Hawaii Longline Fishers

C. Ecosystem-based Fishery Management Project TurtleWatch Validation

D. ESA and MMPA Updates

1. Status of ESA Consultations

2. Coral Critical Habitat

3. Insular FKW Draft Recovery Plan

4. FKW Take Reduction Plan

5. Other Updates

E. Advisory Group Report and Recommendations

1. Pelagic Plan Team

2. Advisory Panel

3. Scientific & Statistical Committee

F. Public Comment

G. Council Discussion and Action

Wednesday, December 2, 2020, 4:30 p.m. to 5 p.m.

Public Comment on Non-Agenda Items

Thursday, December 3, 2020, 11 a.m.-5 p.m.

8. American Samoa Archipelago

A. Motu Lipoti

B. Department of Marine and Wildlife Resources Report

1. CARES Act distribution of funds

2. Catchit Logit App Training

3. Bottomfish Fono Resolution

C. American Samoa Bottomfish Fisheries

1. Update on the Bottomfish Fishery Interim Measure

2. Options for Annual Catch Limits 2021-22 (Initial Action)

3. Options for Bottomfish Stock Rebuilding Plan (Initial Action)

D. Status of the American Samoa Large Vessel Prohibited Area

E. Advisory Group Report and Recommendations

1. Advisory Panel

2. Scientific & Statistical Committee

F. Public Comment

G. Council Discussion and Action

9. Mariana Archipelago

A. Guam

1. Isla Informe

2. Department of Agriculture/Division Aquatic and Wildlife Resources Report

a. CARES Act distribution of funds

b. Catchit Logit App Training

c. Mandatory Licensing and Reporting

3. Options for Guam Bottomfish Stock Rebuilding Plan (Initial Action)

4. Report on the Compact of Free Association Renegotiation

B. CNMI

1. Arongol Falú

2. Department of Land and Natural Resource/Division of Fish and Wildlife Report

a. CARES Act distribution of funds

b. Catchit Logit App Training

C. Advisory Group Reports and Recommendations

1. Advisory Panel

2. Scientific & Statistical Committee

D. Public Comment

E. Council Discussion and Action

10. Program Planning and Research

A. National Legislative Report

B. Electronic Technologies Implementation Plan

C. Status of Pacific Islands Marine Monuments

D. Update on Interagency US Seafood Trade Task Force

E. Regional Communications & Outreach Report

F. Advisory Group Report and Recommendations

1. Advisory Panel

2. Non-Commercial Fisheries Advisory Committee

3. Fishing Industry Advisory Committee

4. Scientific & Statistical Committee

G. Public Comment

H. Council Discussion and Action

Friday, December 4, 2020, 11 a.m.-5 p.m.

11. Hawai`i Archipelago & Pacific Remote Island Areas (PRIA)

A. Moku Pepa

B. Department of Land Natural Resources/Division of Aquatic Resources Report

1. CARES Act funding distribution

C. Plans for Hawaii Fishery Management

D. Advisory Group Report and Recommendations

1. Advisory Panel

2. Fishing Industry Advisory Committee

3. Scientific & Statistical Committee

E. Public Comment

F. Council Discussion and Action

13. Administrative Matters

A. Financial Reports

1. Current Grants

B. Administrative Reports

C. Program Plan Report

D. Council Coordination Committee

E. Council Family Changes

F. Meetings and Workshops

G. Code of Ethics Training

H. Standing Committee Report and Recommendations

I. Public Comment

J. Council Discussion and Action

14. Election of Officers

15. Other Business

Non-emergency issues not contained in this agenda may come before the Council for discussion and formal Council action during its 184th meeting. However, Council action on regulatory issues will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: November 10, 2020.
Diane M. DeJames-Daly,
Acting Deputy Director, Office of Sustainable Fisheries, National Marine Fisheries Service.

[FR Doc. 2020-25231 Filed 11-13-20; 8:45 am]

BILLING CODE 3510-22-P